SECURITIES AND EXCHANGE COMMISSION

Proposed Collections; Comment Request

Upon written request; copies available from: Securities and Exchange Commission, Office of Filings and Information Services, Washington, DC 20549.

Extensions:

Rule 12d1-3, OMB Control No. 3235-0109, SEC File No. 270-116.

Schedule 13E-4F, OMB Control No. 3235-0375, SEC File No. 270-340.

Form F-X, OMB Control No. 3235-0379, SEC File No. 270-336.

Notice is hereby given that pursuant to the Paperwork Reduction Act of 1995 (44 U.S.C. 3501 et seq.) the Securities and Exchange Commission (“Commission”) is soliciting comments on the collection of information summarized below. The Commission plans to submit this existing collection of information to the Office of Management and Budget for approval.

Rule 12d1-3 (17 CFR 240.12d1-3) requires a certification that a security has been approved by an exchange for listing and registration pursuant to Section 12(d) of the Securities Exchange Act of 1934 (15 U.S.C. 78l(d)) to be filed with the Commission. The information required under Rule 12d1-3 must be filed with the Commission and is publicly available. We estimate that it takes one-half hour per response to provide the information required under Rule 12d1-3 and that the information is filed by 688 respondents for a total annual reporting burden of 344 hours (.5 hours per response × 688 responses).

Schedule 13E-4F (17 CFR 240.13e-102) may be used by any foreign private issuer if: (1) The issuer is incorporated or organized under the laws of Canada; (2) the issuer is making a cash tender or exchange offer for the issuer's own securities; and (3) less than 40 percent of the class of such issuer's securities outstanding that is the subject of the tender offer is held by U.S. holders. The information collected must be filed with the Commission and is publicly available. We estimate that it takes 2 hours per response to prepare Schedule 13E-4F and that the information is filed by 3 respondents for a total annual reporting burden of 6 hours (2 hours per response × 3 responses).

Form F-X (17 CFR 239.42) is used to appoint an agent for service of process by Canadian issuers registering securities on Form F-7, F-8, F-9 or F-10 or filing periodic reports on Form 40-F under the Exchange Act of 1934 (15 U.S.C. 78a et seq.). The information collected must be filed with the Commission and is publicly available. We estimate that it takes 2 hours per response to prepare Form F-X and that the information is filed by 129 respondents for a total annual reporting burden of 258 hours (2 hours per response × 129 responses).

Written comments are invited on: (a) Whether these proposed collections of information are necessary for the performance of the functions of the agency, including whether the information will have practical utility; (b) the accuracy of the agency's estimate of the burden imposed by the collections of information; (c) ways to enhance the quality, utility, and clarity of the information collected; and (d) ways to minimize the burden of the collection of information on respondents, including through the use of automated collection techniques or other forms of information technology. Consideration will be given to comments and suggestions submitted in writing within 60 days of this publication.

Please direct your written comment to R. Corey Booth, Director/Chief Information Officer, Securities and Exchange Commission, C/O Shirley Martinson, 6432 General Green Way, Alexandria, Virginia 22312; or send an e-mail to: PRA_Mailbox@sec.gov.

Dated: September 28, 2006.
J. Lynn Taylor,
Assistant Secretary.

[FR Doc. E6-16849 Filed 10-11-06; 8:45 am]

BILLING CODE 8011-01-P